DEPARTMENT OF LABOR

Employment and Training Administration

[TA-W-42,311]

New England Iron, LLC, Springfield, MA; Notice of Negative Determination Regarding Application for Reconsideration

By application February 6, 2003, a petitioner requested administrative reconsideration of the Department's negative determination regarding eligibility to apply for Trade Adjustment Assistance (TAA), applicable to workers and former workers of the subject firm. The denial notice was signed on December 13, 2002, and published in the Federal Register on January 9, 2003 (67 FR 1201).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of New England Iron, LLC, Springfield, Massachusetts was denied because the “contributed importantly” group eligibility requirement of section 222(3) of the Trade Act of 1974, as amended, was not met. The “contributed importantly” test is generally demonstrated through a survey of customers of the workers' firm. The survey revealed that none of the respondents increased their purchases of imported grey iron castings. The company did not import grey iron castings in the relevant period.

The petitioner asserts that the subject firm was a tier (2) supplier to a tier (1) company that in turn machined the castings and sold them to an automaker. The petitioner further alleges that this automaker is currently having these machined castings made in Brazil.

In assessing the eligibility of a petitioning worker group for trade adjustment assistance, the Department considers imports that are “like or directly” competitive to those produced by the petitioning worker group. As the grey iron castings that are allegedly imported are subject to further processing (e.g., machined), they would not be considered “like or directly” competitive with the grey iron castings produced by the subject firm, and thus do not meet the eligibility requirements of the Trade Act of 1974.

Conclusion

After review of the application and investigative findings, I conclude that there has been no error or misinterpretation of the law or of the facts which would justify reconsideration of the Department of Labor's prior decision. Accordingly, the application is denied.

Signed in Washington, DC this 19th day of March 2003.
Edward A. Tomchick,
Director, Division of Trade Adjustment Assistance.

[FR Doc. 03-8351 Filed 4-4-03; 8:45 am]

BILLING CODE 4510-30-P